ENVIRONMENTAL PROTECTION AGENCY

[FRL-7541-3]

Adequacy Status of the Louisville, Kentucky Submitted 1-Hour Ozone Maintenance Plan for Transportation Conformity Purposes

AGENCY: Environmental Protection Agency (EPA).

ACTION: Notice of adequacy.

SUMMARY: In this notice, EPA is notifying the public that EPA has found that the motor vehicle emission budgets (MVEB) in the Louisville 1-Hour Ozone Maintenance Plan, submitted June 27, 2003, by the Kentucky Department of Air Quality (KDAQ) and the Jefferson County Air Pollution Control District (JCAPCD), are adequate for transportation conformity purposes. On March 2, 1999, the DC Circuit Court ruled that submitted State Implementation Plans (SIPs) cannot be used for transportation conformity determinations until EPA has affirmatively found them adequate. As a result of this finding, Louisville can use the MVEB from the Louisville 1-Hour Ozone Maintenance Plan for future conformity determinations.

DATES: This finding is effective August 22, 2003.

FOR FURTHER INFORMATION CONTACT: The finding and the response to comments are available at EPA's conformity Web site: http://www.epa.gov/otaq/transp.htm (once there, click on the “Transportation Conformity” text icon, then look for “Adequacy Revision of State Implementation Plan (SIP) Submissions for Conformity”).

Lynorae Benjamin, Environmental Engineer; U.S. Environmental Protection Agency, Region 4; Air Planning Branch; Air Quality Modeling and Transportation Section; Branch; 61 Forsyth Street, SW; Atlanta, Georgia 30303. E-mail: benjamin.lynorae@epa.gov. Phone number: (404) 562-9040.

SUPPLEMENTARY INFORMATION:

Background

Today's notice is simply an announcement of a finding that EPA has already made. EPA Region 4 sent a letter to KDAQ and JCAPD on July 23, 2003, stating that the MVEB in the Louisville 1-hour Ozone Maintenance Plan Revision submitted on June 27, 2003, are adequate. This finding has also been announced on EPA's conformity Web site: http://www.epa.gov/otaq/transp.htm, (once there, click on the “Transportation Conformity” text icon, then look for “Adequacy Review of State Implementation Plan (SIP) Submissions for Conformity”).

Transportation conformity is required by section 176(c) of the Clean Air Act, as amended in 1990. EPA's conformity rule requires that transportation plans, programs and projects conform to state air quality implementation plans and establishes the criteria and procedures for determining whether or not they do. Conformity to a SIP means that transportation activities will not produce new air quality violations, worsen existing violations, or delay timely attainment of the national ambient air quality standards.

The criteria by which EPA determines whether a SIP's MVEB are adequate for transportation conformity purposes are outlined in 40 Code of Federal Regulations 93.118(e)(4). Please note that an adequacy review is separate from EPA's completeness review, and it also should not be used to prejudge EPA's ultimate approval of the SIP. Even if EPA finds a budget adequate, the Agency may later determine that the SIP itself is not approvable.

EPA has described the process for determining the adequacy of submitted SIP budgets in guidance (May 14, 1999 memorandum entitled “Conformity Guidance on Implementation of March 2, 1999 Conformity Court Decision”). EPA has followed this guidance in making this adequacy determination.

Authority: 42 U.S.C. 7401-7671 q.

Dated: July 31, 2003.
A. Stanley Meiburg,
Acting Regional Administrator, Region 4.

[FR Doc. 03-20152 Filed 8-6-03; 8:45 am]

BILLING CODE 6560-50-P